DEPARTMENT OF ENERGY

Notice of Intent Regarding Bipartisan Infrastructure Law (BIL) Support for Clean Hydrogen Electrolysis, Manufacturing, and Recycling

AGENCY: Office Energy Efficiency and Renewable Energy, Department of Energy.

ACTION: Notice of intent.

SUMMARY: The U.S. Department of Energy (DOE) announces the publication of a Notice of Intent (NOI) to issue a Funding Opportunity Announcement (FOA) entitled “Bipartisan Infrastructure Law: Clean Hydrogen Electrolysis, Manufacturing, and Recycling,” in accordance with the Infrastructure Investment and Jobs Act also known as the Bipartisan Infrastructure Law (BIL). The anticipated FOA will support the broader government-wide approach to accelerate progress in clean hydrogen technologies and maximize the benefits of the clean energy transition as the nation works to curb the climate crisis, empower workers, and advance environmental justice.

DATES: The NOI was issued on December 16, 2022.

ADDRESSES: The NOI was issued via the EERE Exchange ¹ system available at https://eere-exchange.energy.gov/(see NOI DE-FOA-0002921).

¹ The DOE Office of Energy Efficiency & Renewable Energy (EERE) issues funding opportunities and related announcements through the EERE Funding Opportunity Exchange system.

FOR FURTHER INFORMATION CONTACT: Questions may be addressed to HFTOBILFOA@ee.doe.gov or to Shawna McQueen at (202) 586-8033.

SUPPLEMENTARY INFORMATION: Clean hydrogen technologies, particularly for hard-to-decarbonize sectors of the economy, will directly support Biden administration goals to put the United States on a path to achieve net-zero emissions economy-wide by no later than 2050 to benefit all Americans.² Section 40314 of the BIL ³ authorizes DOE appropriations of $1.5 billion over five years ($300 million per year for Fiscal Years 2022 to 2026) to support clean hydrogen manufacturing, recycling, and electrolysis. Specifically, Section 40314 amends Title VIII of the Energy Policy Act of 2005 to include a new “Section 815—Clean Hydrogen Manufacturing and Recycling” ($500 million) and a new “Section 816—Clean Hydrogen Electrolysis Program” ($1 billion). DOE intends to issue the “Bipartisan Infrastructure Law (BIL): Clean Hydrogen Electrolysis, Manufacturing, and Recycling FOA” to address these provisions of the BIL and to support the Hydrogen Energy Earthshot,⁴ a DOE initiative to reduce the cost of clean hydrogen by 80 percent to $1 per 1 kilogram in 1 decade (“1 1 1”). The anticipated FOA will catalyze both innovation and manufacturing at scale, stimulating private sector investments, spurring development across the hydrogen supply chain, and dramatically reducing the cost of clean hydrogen. Efforts will also address support robust supply chains including for any needed critical materials and design for environmental and climate stewardship, efficiency, durability, and recyclability to ensure a strategic and sustainable build out of the clean hydrogen industry.

² U.S. Department of State and the Executive Office of the President, The Long-Term Strategy of the United States: Pathways to Net-Zero Greenhouse Gas Emissions by 2050, November 2021, https://www.whitehouse.gov/wp-content/uploads/2021/10/US-Long-Term-Strategy.pdf.

³ Infrastructure Investment and Jobs Act, Public Law 117-58 (November 15, 2021), Section 40314, (42 U.S.C. 16161c), https://www.congress.gov/bill/117th-congress/house-bill/3684. This NOI uses the more common name “Bipartisan Infrastructure Law (BIL).”

⁴ U.S. Department of Energy Hydrogen Program, “Hydrogen Shot,” U.S. Department of Energy, Washington, DC, 2021. https://www.energy.gov/eere/fuelcells/hydrogen-shot.

Specifically, the FOA will support the following objectives:

• Reduce the cost of clean hydrogen produced from electrolyzers to less than $2 per kilogram by 2026 ⁵

⁵ See 42 U.S.C. 16161d(c)(1).

• Advance new manufacturing technologies and techniques for clean hydrogen production and use equipment, specifically for electrolyzer and fuel cell technologies, and

• Research, develop, and demonstrate innovative and practical approaches to increase the reuse and recycling of clean hydrogen technologies.

It is anticipated that the FOA will include the following technical topics:

Area of Interest 1: Clean Hydrogen Electrolysis Program

• Topic Area 1: Low Cost, High Throughput Electrolyzer Manufacturing

• Topic Area 2: Electrolyzer Component and Supply Chain RD&D

• Topic Area 3: Advanced Electrolyzer Technology and Component Development

Area of Interest 2: Clean Hydrogen Manufacturing and Recycling

• Topic Area 4: Fuel Cell Membrane Electrode Assembly and Stack Manufacturing and Automation

• Topic Area 5: Fuel Cell Component and Supply Chain Development

• Topic Area 6: Recovery and Recycling Consortium

More information on the anticipated technical topics, including anticipated funding levels, can be found in the NOI. The NOI [DE-FOA-0002921] is available at https://eere-exchange.energy.gov/.

Signing Authority: This document of the Department of Energy was signed on December 14, 2022 by Francisco Alejandro Moreno, Acting Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on December 19, 2022.
Treena V. Garrett,
Federal Register Liaison Officer, U.S. Department of Energy.

[FR Doc. 2022-27838 Filed 12-21-22; 8:45 am]

BILLING CODE 6450-01-P